DEPARTMENT OF THE INTERIOR

Bureau of Indian Affairs

Proposed Renewal of Loan Guaranty, Insurance, and Interest Subsidy; Request for Comments

AGENCY: Bureau of Indian Affairs, Interior.

ACTION: Notice of Renewal of Information Collection.

SUMMARY: The Department of the Interior (DOI), Office of Indian Energy and Economic Development (OIEED), is seeking comments on the collection of information necessary for utilization of the Loan Guaranty, Insurance, and Interest Subsidy Program. This is necessary to continue the use of forms for this program approved by the Office of Management and Budget under the Paperwork Reduction Act of 1995. The public will have the opportunity to comment on the time and expense required by these forms to access the program.

DATES: Submit comments on or before January 23, 2007.

ADDRESSES: Send comments to David B. Johnson, Acting Chief, Division of Capital Investment, Office of Indian Energy and Economic Development, Department of the Interior, 1951 Constitution Avenue, NW., Mail Stop 20-SIB, Washington, DC 20240; or hand deliver them to Room 20 at that address. We cannot use e-mail but you may comment by telefacsimile at (202) 208-6512.

FOR FURTHER INFORMATION CONTACT: Woodrow Sneed, Financial Analyst, Division of Capital Investment, (202) 513-7683.

SUPPLEMENTARY INFORMATION: The Loan Guaranty, Insurance, and Interest Subsidy Program (Program) was established in the Act of April 12, 1974, as amended, 88 Stat. 79, 25 U.S.C. 1481 et seq. and 25 U.S.C. 1511 et seq. The Program has existed since 1974 and the regulations implementing it have existed since 1975, with significant revision in 2001. Until this year, the program has been administered by the Bureau of Indian Affairs. It is now administered by the Office of Indian Energy and Economic Development in the Office of the Assistant Secretary—Indian Affairs in DOI. It is necessary to collect information from users of this program in order to determine eligibility and credit worthiness of respondents.

Request for Comments

The DOI requests your comments on this collection concerning:

(a) The necessity of this information collection for the proper performance of the functions of the agency, including whether the information will have practical utility;

(b) the accuracy of the agency's estimate of the burden (hours and cost) of the collection of information, including the validity of the methodology and assumptions used;

(c) ways we could enhance the quality, utility and clarity of the information to be collected; and

(d) ways we could minimize the burden of the collection of the information on the respondents, such as through the use of automated collection techniques or other forms of information technology.

Please note that an agency may not sponsor or request and an individual need not respond to, a collection of information unless it has a valid OMB Control Number.

If you wish to have your name and/or address withheld, you must state this prominently at the beginning of your comments. We will honor your request according to the requirements of the law. All comments from organizations or representatives will be available for review. We may withhold comments from review for other reasons.

OMB Control Number: 1076-0020.

Type of review: Renewal.

Title: Loan Guaranty, Insurance, and Interest Subsidy, 25 CFR 103.

Brief description of collection: The purpose of the Loan Guaranty, Insurance, and Interest Subsidy Program, 25 U.S.C. 1481 et seq. and 25 U.S.C. 1511 et seq., is to encourage private lending to individual Indians and organizations of Indians, by providing lenders with loan guaranties or loan insurance to reduce their potential risk. Lenders, borrowers, and the loan purpose all must qualify under Program terms. In addition, the Secretary of the Interior must be satisfied that there is a reasonable prospect that the loan will be repaid. DOI collects information under the proposed regulations to assure compliance with Program requirements.

There are currently 293 outstanding loans. Based upon historical records, DOI anticipates approximately 65 applications for loan guaranties each year. DOI will receive approximately 20 additional loan insurance applications or notices of loan insurance per year. Of the combined 85 applications/notices, DOI expects that it will guarantee or insure approximately 62 new loans each year, of which approximately 45 will receive interest subsidy. We will have about 350 loans outstanding by the close of Fiscal Year 2007.

In all, DOI estimates the total annual Program compliance burden to range from approximately 1-2 hours per loan, with the average loan causing a burden of approximately 1.50 hours. Most compliance burdens fall below this average.

DOI assumes the average hourly cost per respondent to be $20.00.

Respondents: Commercial banks.

Number of Respondents: 350.

Number of Responses Annually: 1,527.

Estimated Time per Respondent: 2 hours.

Frequency of Response: As needed.

Total Annual Burden to Respondents: 3,014.

Total Annual Cost to Respondents: $60,280.00.

Dated: November 3, 2006.
Michael D. Olsen,
Principal Deputy Assistant Secretary—Indian Affairs.

[FR Doc. E6-19849 Filed 11-22-06; 8:45 am]

BILLING CODE 4310-XN-P